ENVIRONMENTAL PROTECTION AGENCY

[ER-FRL-6669-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 1, 2005 (70 FR 16815).

Draft EISs

EIS No. 20050357, ERP No. D-AFS-J65452-UT, Lake Project, Proposal to Maintain Vegetative Diversity and Recover Economic Value of Dead, Dying and High Risk to Mortality Trees, Manti-La Sal National Forest, Ferron/Price Ranger District, Emery and Sanpete Counties, UT.

Summary: EPA expressed concern about potential impacts to water quality, soils, and ecosystem functions attributed to spruce logging operations, and recommended including an alternative that focuses on sanitation and salvage.

Rating EC2.

EIS No. 20050358, ERP No. D-NPS-D61057-VA, Great Falls Park General Management Plan, Implementation, George Washington Parkway, Fairfax County, VA.

Summary: EPA has no objections to the proposal.

Rating LO.

EIS No. 20050375, ERP No. DS-FHW-E40818-TN, TN-397 (Mack Hatcher Parkway Extension) Construction from US-31 (TN-6, Columbia Avenue) South of Franklin to US-341 (TN-106, Hillsboro Road) North of Franklin, Additional Information on the Build Alternative (Alternative G), Williamson County and City of Franklin, TN.

Summary: EPA continues to have environmental concerns about the proposed project because of the potential for significant direct and indirect impacts to water quality as well as impacts to the Harpeth River Historic District and other sensitive resources as a result of the development of Alternative G.

Rating EC2.

Final EISs

EIS No. 20050366, ERP No. F-FHW-G40182-AR, I-69 Section of Independent Utility 13 El Dorado to McGehee, Construction of 4 Lane divided Access Facility, U.S. Coast Guard Permit, U.S. Army COE section 404 Permit, Quachita River, Quachita, Union, Calhoun, Bradley, Drew, and Desha Counties, AR.

Summary: No formal comment letter was sent to the preparing agency.

EIS No. 20050393, ERP No. F-AFS-K65269-CA, Southern California National Forests Land Management Plans, Revision of the Angeles, Cleveland, Los Padres, and San Bernardino National Forests Land Management Plans, Implementation, San Bernardino, Riverside, and San Diego Counties, CA.

Summary: EPA's previous concerns have been adequately addressed with the selection of modified alternative 4a; therefore EPA has no objection to the proposed action.

Dated: November 7, 2005.
Robert W. Hargrove,
Director, NEPA Compliance Division, Office of Federal Activities.

[FR Doc. 05-22461 Filed 11-9-05; 8:45 am]

BILLING CODE 6560-50-P